DEPARTMENT OF ENERGY

Federal Energy Regulatory Commission

Combined Notice of Filings #1

Take notice that the Commission received the following electric rate filings:

Docket Numbers: ER19-2050-002.

Applicants: Midcontinent Independent System Operator, Inc., GridLiance Heartland LLC.

Description: Tariff Amendment: 2019-09-26_Deficiency Response to GridLiance Attachment O to be effective 12/31/9998.

Filed Date: 9/26/19.

Accession Number: 20190926-5112.

Comments Due: 5 p.m. ET 10/17/19.

Docket Numbers: ER19-2902-000.

Applicants: New England Power Pool Participants Committee.

Description: § 205(d) Rate Filing: Oct 2019 Membership Filing to be effective 9/1/2019.

Filed Date: 9/30/19.

Accession Number: 20190930-5066.

Comments Due: 5 p.m. ET 10/21/19.

Docket Numbers: ER19-2903-000.

Applicants: Southern California Edison Company.

Description: § 205(d) Rate Filing: Amendments to GIA and DSA re: RB Inyokern, SA Nos. 958 & 959 to be effective 10/1/2019.

Filed Date: 9/30/19.

Accession Number: 20190930-5092.

Comments Due: 5 p.m. ET 10/21/19.

Docket Numbers: ER19-2905-000.

Applicants: Southern California Edison Company.

Description: § 205(d) Rate Filing: Vallecito Energy Storage Project, GIA and DSA, 1091 & 1092, Ntc of Canx, SA 1045 to be effective 10/1/2019.

Filed Date: 9/30/19.

Accession Number: 20190930-5124.

Comments Due: 5 p.m. ET 10/21/19.

Docket Numbers: ER19-2906-000.

Applicants: Tucson Electric Power Company.

Description: § 205(d) Rate Filing: Concurrence to CAISO RS No. 5223 to be effective 12/1/2019.

Filed Date: 9/30/19.

Accession Number: 20190930-5149.

Comments Due: 5 p.m. ET 10/21/19.

Docket Numbers: ER19-2907-000.

Applicants: ISO New England Inc., Emera Maine.

Description: § 205(d) Rate Filing: ISO-NE and Emera Maine; First Revised TSA-EMERA-18-01 to be effective 10/1/2019.

Filed Date: 9/30/19.

Accession Number: 20190930-5154.

Comments Due: 5 p.m. ET 10/21/19.

Docket Numbers: ER19-2908-000.

Applicants: Tenaska Clear Creek Wind, LLC.

Description: Baseline eTariff Filing: Application for Market-Based Rate Authorization Under Section 205 of the FPA to be effective 10/1/2019.

Filed Date: 9/30/19.

Accession Number: 20190930-5156.

Comments Due: 5 p.m. ET 10/21/19.

Take notice that the Commission received the following electric securities filings:

Docket Numbers: ES19-55-000.

Applicants: ITC Great Plains, LLC.

Description: Supplement to September 18, 2019 Application under Section 204 of the Federal Power Act [revised Exhibit D] of ITC Great Plains, LLC.

Filed Date: 9/30/19.

Accession Number: 20190930-5085.

Comments Due: 5 p.m. ET 10/21/19.

Docket Numbers: ES19-56-000.

Applicants: ITC Midwest LLC.

Description: Supplement to September 18, 2019 Application under Section 204 of the Federal Power Act [revised Exhibit D] of ITC Midwest LLC.

Filed Date: 9/30/19.

Accession Number: 20190930-5086.

Comments Due: 5 p.m. ET 10/21/19.

Docket Numbers: ES19-57-000.

Applicants: International Transmission Company.

Description: Supplement to September 18, 2019 Application under Section 204 of the Federal Power Act [revised Exhibit D] of International Transmission Company.

Filed Date: 9/30/19.

Accession Number: 20190930-5087.

Comments Due: 5 p.m. ET 10/21/19.

Docket Numbers: ES19-58-000.

Applicants: Michigan Electric Transmission Company, LLC.

Description: Supplement to September 18, 2019 Application under Section 204 of the Federal Power Act [revised Exhibit D] of Michigan Electric Transmission Company, LLC.

Filed Date: 9/30/19.

Accession Number: 20190930-5088.

Comments Due: 5 p.m. ET 10/21/19.

Docket Numbers: ES19-64-000.

Applicants: Metropolitan Edison Company.

Description: Application under Section 204 of the Federal Power Act for Authorization to Issue Securities of Metropolitan Edison Company.

Filed Date: 9/27/19.

Accession Number: 20190927-5158.

Comments Due: 5 p.m. ET 10/18/19.

Docket Numbers: ES19-65-000.

Applicants: Monongahela Power Company.

Description: Application under Section 204 of the Federal Power Act for Authorization to Issue Securities of Monongahela Power Company.

Filed Date: 9/27/19.

Accession Number: 20190927-5162.

Comments Due: 5 p.m. ET 10/18/19.

Docket Numbers: ES19-66-000.

Applicants: Pennsylvania Electric Company.

Description: Application under Section 204 of the Federal Power Act for Authorization to Issue Securities of Pennsylvania Electric Company.

Filed Date: 9/27/19.

Accession Number: 20190927-5178.

Comments Due: 5 p.m. ET 10/18/19.

Docket Numbers: ES19-67-000.

Applicants: Pennsylvania Power Company.

Description: Application under Section 204 of the Federal Power Act for Authorization to Issue Securities of Pennsylvania Power Company.

Filed Date: 9/27/19.

Accession Number: 20190927-5190.

Comments Due: 5 p.m. ET 10/18/19.

Docket Numbers: ES19-68-000.

Applicants: The Potomac Edison Company.

Description: Application under Section 204 of the Federal Power Act for Authorization to Issue Securities of The Potomac Edison Company.

Filed Date: 9/27/19.

Accession Number: 20190927-5192.

Comments Due: 5 p.m. ET 10/18/19.

Docket Numbers: ES19-69-000.

Applicants: Trans-Allegheny Interstate Line Company.

Description: Application under Section 204 of the Federal Power Act for Authorization to Issue Securities of Trans-Allegheny Interstate Line Company.

Filed Date: 9/27/19.

Accession Number: 20190927-5193.

Comments Due: 5 p.m. ET 10/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2019.
Nathaniel J. Davis, Sr.,
Deputy Secretary.

[FR Doc. 2019-21633 Filed 10-3-19; 8:45 am]

BILLING CODE 6717-01-P